DEPARTMENT OF THE INTERIOR

National Park Service

Notice of Intent To Prepare a General Management Plan/Draft Environmental Impact Statement for Big Cypress National Preserve, Florida

SUMMARY: In accordance with Section 102(2)(c) of the National Environmental Policy Act of 1969, the National Park Service is preparing a General Management Plan/Draft Environmental Impact Statement for the Addition lands portion of Big Cypress National Preserve in Collier County, Florida, and is initiating the scoping process for this document.

DATES: Open houses will be held on the following dates:

1. July 30, 2001, 3:30-7:30 p.m., Everglades City, Florida

2. July 31, 2001, 3:30-7:30 p.m., Naples, Florida

3. August 1, 2001, 3:30-7:30 p.m., Seminole Reservation, Florida

4. August 2, 2001, 3:30-7:30 p.m., Miami, Florida

Comments on this scoping process should be received by August 17, 2001. A General Management Plan/Draft Environmental Impact Statement should be available for review by January 2003.

ADDRESSES: The public meeting locations are:

1. Everglades City School, 415 School Drive, Everglades City, Florida, 34139

2. The Conservancy of Southwest Florida, 1450 Merihue Drive, Naples, Florida, 34102

3. Frank Billie Center, Seminole Tribe of Florida Reservation, CR 833, Florida, 33440

4. Miami-Dade County Fair and Exposition, 10901 Coral Way, Miami, Florida, 33165-2398

Send requests to be placed on the mailing list to Susan Kaynor, EIS Coordinator, Big Cypress National Preserve, HCR 61, Box 110, Ochopee, Florida, 34141.

FOR FURTHER INFORMATION CONTACT: Superintendent, Big Cypress National Preserve, HCR 61, Box 110, Ochopee, Florida, 34141, telephone 941-695-2000.

SUPPLEMENTARY INFORMATION: The Addition Lands General Management Plan/Draft Environmental Impact Statement (GMP/DEIS) is needed to address how the National Park Service can protect its resources and values, provide for recreational and other opportunities, and ensure public safety in the Addition Lands. Big Cypress National Preserve was established in 1974. In 1988, 147,280 acres, known as the Addition, were added to the Preserve, increasing the Preserve by 30%. The current management plan for the Preserve does not address the lands in the Addition and the complex visitor management and resource issues and needs of this area. In the GMP/DEIS and its accompanying public involvement process, the National Park Service will formulate and evaluate the environmental impacts of a reasonable range of alternatives that will provide protection for resources and values at Big Cypress National Preserve.

A public scoping newsletter will be mailed in June 2001 to invite public participation in the scoping process and to describe the planning process. The general public and affected or interested parties are encouraged to provide comments and suggestions, and to identify issues and other reasonable alternatives that should be addressed in the General Management Plan/Draft Environmental Impact Statement.

Our practice is to make comments, including names and home addresses of respondents, available for public review during regular business hours. If you wish for us to withhold your name and/or address, you must state this prominently at the beginning of your comment. However, we will not consider anonymous comments. We will make all submissions from organizations or businesses, and from individuals identifying themselves as representatives or officials of organizations or businesses, available for public inspection in their entirety.

Dated: April 25, 2001.
Patricia A. Hooks,
Regional Director, Southeast Region.

[FR Doc. 01-14792 Filed 6-11-01; 8:45 am]

BILLING CODE 4310-70-M